DEPARTMENT OF ENERGY

Federal Energy Regulatory Commission

Notice of Initiation of Proceeding and Refund Effective Date

April 27, 2001.

San Diego Gas & Electric Company, Complainant, v. Sellers of Energy and Ancillary Service Into Markets Operated by the California Independent System Operator and the California Power Exchange, Respondents; Docket No. EL00-95-012.

Investigation of Practices of the California Independent System Operator and the California Power Exchange; Docket No. EL00-98-000.

California Independent System Operator Corporation; Docket No. RT01-85-000.

Investigation of Wholesale Rates of Public Utility Sellers of Energy and Ancillary Services in the Western Systems Coordinating Council; Docket No. EL01-68-000.

Take notice that on April 26, 2001, the Commission issued an order in the above-indicated dockets initiating a proceeding in Docket No. EL01-68-000 under section 206 of the Federal Power Act.

The refund effective date in Docket No. EL01-68-000 will be 60 days after publication of this notice in the Federal Register.

David P. Boergers,
Secretary.

[FR Doc. 01-11053 Filed 5-2-01; 8:45 am]

BILLING CODE 6717-01-M